DEPARTMENT OF ENERGY

Federal Energy Regulatory Commission

[Docket No. RP99-507-000]

Amoco Energy Trading Corporation, Amoco Production Company, and Burlington Resources Oil & Gas Company v. El Paso Natural Gas Company; Notice of Technical Conference

Correction

In notice document 00-4445, appearing on page 10067, in the issue of Friday, February 25, 2000, the docket line should appear as set forth above.

[FR Doc. C0-4445 Filed 3-3-00; 8:45 am]

BILLING CODE 1505-01-D

DEPARTMENT OF ENERGY

Federal Energy Regulatory Commission

[Project No. 309--Pennsylvania]

Pennsylvania Electric Co./GPU Genco; Notice of Meeting

Correction

In notice document 00-3762 appearing on page 8129 in the issue of Thursday, February 17, 2000, the docket number should read as set forth above.

[FR Doc. C0-3762 Filed 3-3-00; 8:45 am]

BILLING CODE 1505-01-D

NUCLEAR REGULATORY COMMISSION

[Docket No. 50-263]

Northern States Power Company; Monticello Nuclear Generating Plant; Notice of Consideration of Approval of Transfer of Operating Authority Under Facility Operating License and Conforming Amendment, and Opportunity for a Hearing

Correction

In notice document 00-3517 beginning on page 7574 in the issue of Tuesday, February 15, 2000, make the following correction:

On page 7574, in the third column, the second full paragraph, the third line, “March 18, 2000” should read “March 16, 2000”.

[FR Doc. C0-3517 Filed 3-3-00; 8:45 am]

BILLING CODE 1505-01-D

NUCLEAR REGULATORY COMMISSION

[Docket Nos. 50-282 and 50-306; Docket No. 72-10]

Northern States Power Company; Prairie Island Nuclear Generating Plant, Units 1 and 2, and Prairie Island Independent Spent Fuel Storage Installation; Notice of Consideration of Approval of Transfer of Operating Authority Under Facility Operating Licenses and Materials License and Conforming Amendments, and Opportunity for a Hearing

Correction

In notice document 00-3518 beginning on page 7574 in the issue of Tuesday, February 15, 2000, make the following correction:

On page 7575, in the third column, the second full paragraph, the third line, “March 18, 2000” should read “March 16, 2000”.

[FR Doc. C0-3518 Filed 3-3-00; 8:45 am]

BILLING CODE 1505-01-D

SECURITIES AND EXCHANGE COMMISSION

[Release No. 34-42403; File No. SR-CHX-99-08]

Self-Regulatory Organizations; Chicago Stock Exchange, Inc.; Order Granting Approval to Proposed Rule Change Relating to Access to an After-Hours Trading Session

February 7, 2000.

Correction

In notice document 00-3436 beginning on page 7581, in the issue of Tuesday, February 15, 2000, make the following correction:

On page 7581, in the second column, the docket number is corrected to read as set forth above.

[FR Doc. C0-3436 Filed 3-3-00; 8:45 am]

BILLING CODE 1505-01-D